NUCLEAR REGULATORY COMMISSION

[Docket No. 40-3392; NRC-2017-0143]

Honeywell International Inc.; Metropolis Works Facility

AGENCY: Nuclear Regulatory Commission.

ACTION: License renewal; issuance.

SUMMARY: The U.S. Nuclear Regulatory Commission (NRC) has issued a renewed license SUB-526, Docket No. 40-3392, to Honeywell International Inc. for its Metropolis Works (MTW) Facility uranium source conversion facility in Metropolis, IL. The renewed license expires on March 24, 2060. This action informs the public of the renewal of the issuance for the Honeywell MTW and discusses the staffs finding with respect to the issuance of the renewed license.

DATES: The license referenced in this document became available on March 24, 2020.

ADDRESSES: Please refer to Docket ID NRC-2017-0143 when contacting the NRC about the availability of information regarding this document. You may obtain publicly-available information related to this document using any of the following methods:

• Federal Rulemaking Website: Go to https://www.regulations.gov and search for Docket ID NRC-2017-0143. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to

pdr.resource@nrc.gov. For the convenience of the reader, instructions about obtaining materials referenced in this document are provided in the “Availability of Documents” section.

FOR FURTHER INFORMATION CONTACT: David Tiktinsky, Office of Nuclear Material Safety and Safeguards, U.S. Nuclear Regulatory Commission, Washington DC 20555-0001; telephone: 301-415-8740, email: David.Tiktinsky@nrc.gov.

SUPPLEMENTARY INFORMATION:

I. Discussion

Pursuant to section 2.106 of title 10 of the Code of Federal Regulations (10 CFR), the NRC is providing notice of the issuance of renewal of a 10 CFR part 40 license, SUB-526, to Honeywell International Inc. The license authorizes Honeywell to possess and use source material, and sources used in gauges, in the operation of uranium source conversion at its Metropolis Works Facility in Metropolis, Il. This licensee's original request for a 40-year license renewal was made on February 8, 2017. A notice of receipt of the license renewal application with an opportunity to request a hearing and petition for leave to intervene was published in the Federal Register on June 19, 2017 (82 FR 27880). The NRC did not receive a request for a hearing or for a petition for leave to intervene. The license renewal application was subsequently revised and supplemented by letters dated September 20, 2017, October 8, 2018, July 7, 2019 and December 19, 2019. The December 19, 2019 version of the License Renewal Application is a standalone document that integrates the information provided in Honeywell's responses to the NRC staff's requests for additional information.

An environmental assessment and finding of no significant impact were prepared for the proposed renewal of license SUB-526 for Honeywell's uranium source conversion facility in Metropolis Il. A Federal Register notice documenting the completion of NRC's environmental review was published on October 16, 2019 (84 FR 55339).

This license renewal complies with the standards and requirements of the Atomic Energy Act of 1954, as amended, and the NRC's rules and regulations as set forth in 10 CFR Chapter 1. Accordingly, the license renewal issued on March 24, 2020, was effective immediately. The NRC prepared a safety evaluation report for the renewal of License SUB-526,and concluded that the licensee can continue to operate the facility without endangering the health and safety of the public and will not significantly affect the quality of the human environment for the duration of the license.

II. Availability of Documents

The documents identified in the following table are available to interested persons through one or more of the following methods, as indicated.

Document | ADAMS Accession No.
Honeywell International, Inc., Honeywell Metropolis Works “Application for Renewal of USNRC Source Materials, SUB-526,” February 8, 2017 | ML17048A263
Honeywell International, Inc., “[Supplement to] Submittal of License Renewal Application for Metropolis Works,” September 20, 2017 | ML17268A153
Honeywell International, Inc., Honeywell Metropolis Works, “Honeywell License Renewal Application Revision 9/14/2018,” October 8, 2018 | ML18284A332
Honeywell International Inc., Letter from J. Price, “Honeywell Metropolis Works Revised License Application,” July 9, 2019 | ML19192A168
Honeywell International Inc., Letter from J. Fulks, “Honeywell Metropolis Works Revised License Application,” December 19, 2019. | ML19357A061
Safety Evaluation Report, Renewal of Source Materials License SUB-526 for Honeywell International Inc., Honeywell Metropolis Works, Metropolis, Illinois, Docket 40-3392, March 24, 2020 | ML19213A276
Honeywell Metropolis Works, Materials License SUB-526, Amendment 14, March 24, 2020 | ML19211B649

The NRC may post materials related to this document, including public comments, on the Federal rulemaking website at https://www.regulations.gov under Docket ID NRC-2017-0143. The Federal rulemaking website allows you to receive alerts when changes or additions occur in a docket folder. To subscribe: (1) Navigate to the docket folder (NRC-2017-0143); (2) click the “Sign up for Email Alerts” link; and (3) enter your email address and select how frequently you would like to receive emails (daily, weekly, or monthly).

Dated: April 10, 2020.
For the Nuclear Regulatory Commission.
Andrea L. Kock,
Director, Division of Fuel Management, Office of Nuclear Material Safety and Safeguards.

[FR Doc. 2020-07946 Filed 4-14-20; 8:45 am]

BILLING CODE 7590-01-P